DEPARTMENT OF THE INTERIOR

National Park Service

[NPS-WASO-NRHP-NPS0032637; PPWOCRAD00 PPMRSCR1Y.Y00000 PX.XCR21AACR.00.1 (222); OMB Control Number 1024-NEW]

Agency Information Collection Activities; African American Civil Rights Network Application

AGENCY: National Park Service, Interior.

ACTION: Notice of information collection; request for comment.

SUMMARY: In accordance with the Paperwork Reduction Act of 1995 we, the National Park Service (NPS), are proposing a new information collection.

DATES: Interested persons are invited to submit comments on or before April 15, 2022.

ADDRESSES: Send your comments on this information collection request (ICR) by mail to Phadrea Ponds, NPS Information Collection Clearance Officer, 12201 Sunrise Valley Drive, (MS 242), Reston, VA 20192; or by email to phadrea_ponds@nps.gov. Please reference Office of Management and Budget (OMB) Control Number 1024-NEW (AACRN) in the subject line of your comments.

FOR FURTHER INFORMATION CONTACT: To request additional information about this ICR, contact Kelly Spradley-Kurowski by email at kelly_spradley-kurowski@nps.gov, or by telephone at 202-924-4969 (voicemail only). Individuals who are hearing or speech impaired may call the Federal Relay Service at 1-800-877-8339 for TTY assistance.

SUPPLEMENTARY INFORMATION: In accordance with the Paperwork Reduction Act of 1995 (PRA) and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology (e.g., permitting electronic submission of response).

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The African American Civil Rights Network (AACRN or Network) was created with the passage of the African American Civil Rights Network Act of 2017 (Pub. L. 115-104) to recognize the importance of the African American Civil Rights movement and the sacrifices made by the people who fought against discrimination and segregation. The National Park Service (NPS), is authorized to coordinate and facilitate federal and non-federal activities to commemorate, honor, and interpret the history of the African American civil rights movement from 1939 through 1968. The activities must have a direct and verifiable connection to the African American Civil Rights movement. Sites, facilities, programs, or properties applying for inclusion must complete and submit the AACRN application to nominate properties, facilities, and programs to the Network. The NPS will use the application to determine eligibility based upon clear, convincing, and well-documented evidence of historical association to the African American civil rights movement. The purpose of this request is for approval of an electronic fillable-fileable AACRN application. Fillable-fileable forms will have pre-populated responses that will eliminate guesswork, improve accuracy, and reduce respondent burden. The on-line submission process to nominate properties and programs will allow faster completion and processing times. Submissions will be available in real-time allowing program administrators direct access as needed.

Title of Collection: African American Civil Rights Network Application.

OMB Control Number: 1024-NEW.

Form Number: None.

Type of Review: New.

Respondents/Affected Public: General Public, governmental and nongovernmental entities applying for inclusion in the Network.

Total Estimated Number of Annual Respondents: 50.

Estimated Completion Time per Response: 30 minutes.

Total Estimated Number of Annual Burden Hours: 25 hours.

Respondent's Obligation: Required to Obtain or Retain a Benefit.

Frequency of Collection: Once.

Total Estimated Annual Nonhour Burden Cost: None.

An agency may not conduct or sponsor nor is a person is required to respond to a collection of information unless it displays a currently valid OMB control number.

The authority for this action is the Paperwork Reduction Act of 1995 (44 U.S.C. 3501 et seq.).

Phadrea Ponds,
Information Collection Clearance Officer, National Park Service.

[FR Doc. 2022-03014 Filed 2-11-22; 8:45 am]

BILLING CODE 4312-52-P